DEPARTMENT OF DEFENSE

Department of the Army; Corps of Engineers

Notice of Intent To Prepare a Draft Environmental Impact Statement for the Skagit River General Investigation Study (Previously Advertised as the Skagit River Flood Damage Reduction Study), Skagit County, WA

AGENCY: Department of the Army, U.S. Army Corps of Engineers, DoD.

ACTION: Notice of Intent.

SUMMARY: The Seattle District, U.S. Army Corps of Engineers (USACE) will prepare a Draft Environmental Impact Statement (DEIS) pursuant to Section 102(2)(C) of the National Environmental Policy Act (NEPA) of 1969, as amended, for a proposed flood-risk management project in the Skagit River Basin from Ross Dam to the river mouth at Skagit Bay. This study was requested by Skagit County, Washington, because of the potential for significant flooding on the Skagit River.

A DEIS is being prepared because of the potential for impacts on environmental resources, particularly salmonid habitat, and the intense public interest already demonstrated in addressing the flooding problems of the Skagit River.

The Skagit River General Investigation (GI) DEIS for the Skagit River Basin is being conducted under the authority of Section 209 of the Flood Control Act of 1962, Public Law 87-874. That section authorized a comprehensive study of Puget Sound, Washington, and adjacent waters including tributaries, in the interest of flood control, navigation, and other water uses and related land resources.

This notice of intent (NOI) was originally published in the Federal Register on November 20, 1997 for the Skagit River Flood Damage Reduction Study (62 FR 62019). A public meeting was held and comments were solicited from the public. Due to the amount of time that has lapsed since the issuance of the original NOI, USACE is reissuing the NOI.

DATES: Persons or organizations wishing to submit scoping comments should do so by August 29, 2011. Public comment may also be made at the scoping meeting August 10, 2011. Notification of scoping meeting times and locations will be sent to all agencies, organizations, and individuals on the project mailing list.

ADDRESSES: Requests for inclusion on the mailing list, future documents, and all comments on the proposed project should be sent to: Hannah Hadley, Study Environmental Coordinator, Seattle District, U.S. Army Corps of Engineers, P.O. 3755, Seattle, WA 98124-3755, ATTN: CENWS-PM-PL-ER; telephone (206) 764-6950; fax (206) 764-4470; or e-mail Hannah.F.Hadley@usace.army.mil.

FOR FURTHER INFORMATION CONTACT: General questions concerning the proposed action and the DEIS can be directed to: Hannah Hadley, Study Environmental Coordinator (see ADDRESSES) or Daniel Johnson, Project Manager, Seattle District, U.S. Army Corps of Engineers, P.O. 3755, Seattle, WA 98124-3755, ATTN: CENWS-EN-CM-CJ; telephone (206) 764-3423; fax (206) 764-4470; or e-mail Daniel.E.Johnson@usace.army.mil.

SUPPLEMENTARY INFORMATION: Background. The Skagit River Basin is located in northwestern Washington State and encompasses 3,140 square miles. The major cities on the Skagit River delta—Mt. Vernon, Burlington, and Sedro Woolley—are located approximately 60 miles north of Seattle. The study area for the DEIS will be from Ross Dam to the river mouth at Skagit Bay.

The purpose of the Skagit River GI study is to better identify the problems and opportunities that exist to relieve flooding and reduce flood risks and to develop a flood-risk management plan that fits Federal law and policy and is within the capability of the local sponsor to support their required share of the project costs.

This is a single-purpose flood-risk management study. The goal of this project is to identify the National Economic Development (NED) plan, the flood-risk management alternative that provides the maximum net economic benefits. In accordance with USACE policy, minimization of ecosystem, cultural, and socio-economic impacts will be a significant project consideration (Reference: ER 1105-2-100, Planning Guidance Notebook). The local sponsor may request the recommendation of a plan other than the NED, the Locally Preferred Plan (LPP).

Since the issuance of the original NOI in 1997, the study has evolved to meet new challenges. The purpose of this NOI is to ensure the study still accurately reflects resource issues and concerns.

Alternatives. In the reconnaissance phase for the Skagit River GI study, USACE identified two alternative courses of action for further analysis which are outlined below.

Alternative 1—No Action: Allow the current levee system to remain in place without a major system-wide levee system upgrade. Individual diking districts would continue to operate, maintain, and repair the existing levee system, and dams on the Baker River and Skagit River would continue present operations for flood reduction.

Alternative 2: Construct a coordinated flood-risk management project that would provide critically needed flood-risk management measures at an affordable cost in a reasonable timeframe and that will subsequently be authorized and implemented.

Skagit County and USACE have developed an array of structural and nonstructural measures for addressing problems and opportunities and for achieving project objectives. In recent years, these measures have been presented to the public at several workshops in Skagit County and to resource and Tribal groups and agencies.

Some or all of the measures will be combined to form the range of alternatives. In the DEIS, the preferred alternative will be selected based on screening and evaluation of the range of alternatives.

Scoping. Public involvement will be sought during scoping, plan formulation, and preparation of the DEIS in accordance with NEPA procedures. A public scoping process has been started: (1) To clarify which issues appear to be major public concerns, (2) to identify any information sources that might be available to analyze and evaluate impacts, and (3) to obtain public input and determine acceptability for the range of measures to be included within potential alternatives.

This NOI formally commences the scoping process under NEPA. As part of the scoping process, all affected Federal, state, and local agencies; Tribes; the public; and other interested private organizations, including environmental groups, are invited to comment on the scope of the DEIS. Comments are requested regarding issues of concern, project alternatives, potential mitigation measures, probable significant environmental impacts, and permits or other approvals that may be required by any project.

The following key areas have been identified so far to be analyzed in depth in the DEIS:

1. Flooding characteristics (existing and with any project).

2. Impacts to fish habitat and fisheries resources.

3. Impacts to riparian habitat.

4. Impacts to wetlands.

5. Impacts to cultural resources.

6. Impacts to surrounding communities.

7. Impacts to geomorphic processes.

Scoping Meeting. Opportunity to comment on the planned study will also be available at the study scoping meeting and open house which is scheduled for 5 p.m. on August 10, 2011 at Skagit Station, 105 E. Kincaid St., Mt. Vernon, WA. Details of the meeting time and location will be announced in the local media. Notices will be sent to all agencies, organizations, and individuals on the mailing list.

Availability of DEIS. USACE expects to complete preparation of the DEIS and make it available for public review by the fall of 2013.

Dated: July 21, 2011.
Anthony O. Wright,
Colonel, Corps of Engineers, District Commander.

[FR Doc. 2011-19208 Filed 7-28-11; 8:45 am]

BILLING CODE 3720-58-P